DEPARTMENT OF THE INTERIOR

Geological Survey

Request for Public Comments on Extension of Existing Information Collection To Be Submitted to OMB for Review Under the Paperwork Reduction Act

The proposal for the information collection described below will be submitted to the Office of Management and Budget for approval under the provisions of the Paperwork Reduction Act (44 U.S.C. Chapter 35). Copies of the proposed collection of information may be obtained by contacting the Bureau's clearance officer at the phone number listed below. Comments on the proposal should be made within 60 days to the Bureau Clearance Officer, U.S. Geological Survey, 807 National Center, 12201 Sunrise Valley Drive, Reston, Virginia 20192, telephone (703) 648-7313.

As required by OMB regulations at 5 CFR 1320.8(d)(1), the U.S. Geological Survey solicits specific public comments as to:

1. Whether the collection of information is necessary for the proper performance of the functions on the bureaus, including whether the information will have practical utility;

2. The accuracy of the bureau's estimate of the burden of the collection of information, including the validity of the methodology and assumptions used:

3. The quality, utility, and clarity of the information to be collected; and

4. How to minimize the burden of the collection of information on those who are to respond, including the use of appropriate automated, electronic, mechanical, or other forms of information technology.

Title: North American Amphibian Monitoring Program.

Current OMB Approval Number: 1028-0078.

Summary: The North American Amphibian Monitoring Program (NAAMP) is a long-term, large-scale anuran (frog and toad) monitoring program to track the status and trends of eastern and central. Volunteers conduct calling surveys three to four times per year, depending on the regional species assemblage. Volunteers listen for 5 minutes at 10 stops along the route. Data are submitted electronically via the Internet or on hard copy. These data will be used to estimate population trends at various geographic scales and assist with documenting species distribution. NAAMP Web site is: http://www.pwrc.usgs.gov/naamp/.

Estimated Annual Number of Respondents: 400.

Estimated Annual Burden Hours: 3600 hours.

Affected Public: Primarily U.S. residents.

For Further Information Contact: To obtain copies of the survey, contact the Bureau clearance officer, U.S. Geological Survey, 807 National Center, 12201 Sunrise Valley Drive, Reston, Virginia 20192, telephone (703) 648-7313.

Dated: November 15, 2004.
Susan Haseltine,
Associate Director for Biology.

[FR Doc. 04-25746 Filed 11-19-04; 8:45 am]

BILLING CODE 4310-47-M